DEPARTMENT OF HEALTH AND HUMAN SERVICES

National Institutes of Health

Submission for OMB Review; 30-Day Comment Request

Collection of Grants and Contracts Data the Historically Black Colleges and Universities (HBCUs) and Small Businesses May Be Interested in Pursuing (Office of the Director)

AGENCY: National Institutes of Health, HHS.

ACTION: Notice.

SUMMARY: In compliance with the Paperwork Reduction Act of 1995, the National Institutes of Health (NIH), Office of the Director, Office of Acquisitions and Logistics Management (OALM), Small Business Program Office (SBPO), has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Keondra Watts, Program Analyst, NIH, Office of the Director, Office of Acquisitions and Logistics Management, Small Business Program Office, 6701 Rockledge Dr., Bethesda, MD 20892-7786, or call non-toll-free number (301) 443-8722 or Email your request, including your address to: Keondra.Watts@nih.gov.

SUPPLEMENTARY INFORMATION: This proposed information collection was previously published in the Federal Register on October 27, 2023, pages 73864-73865 (88 FR 73864) and allowed 60 days for public comment. No public comments were received. The purpose of this notice is to allow an additional 30 days for public comment.

The National Institutes of Health (NIH), Office of the Director, Office of Acquisitions and Logistics Management, Small Business Program Office, may not conduct or sponsor, and the respondent is not required to respond to any information collection that has been extended, revised, or implemented on or after January 31, 2024, unless it displays a currently valid Office of Management and Budget (OMB) control number.

In compliance with Section 3507(a)(1)(D) of the Paperwork Reduction Act of 1995, NIH has submitted to OMB a request for review and approval of the information collection listed below.

Proposed Collection: Collection of Grants and Contracts data the Historically Black Colleges and Universities (HBCUs) and small businesses may be interested in pursuing, 0925-0767, exp., date, 01/31/2024, Office of the Director, Office of Acquisitions and Logistics Management, Small Business Program Office, National Institutes of Health.

Need and Use of Information Collection: Presidential Executive Order 13779 is the White House Initiative to Promote Excellence and Innovation (PEI) of HBCUs. This Executive Order mandates agencies to assist in strengthening HBCUs' ability for equitable participation in federal programs and explore new ways to improve the relationship between the federal government and HBCUs. This initiative will establish how each agency intends to increase the capacity of HBCUs to compete effectively for grants and contracts.

The PEI is a comprehensive plan to increase the capacity of HBCUs as they pursue funding opportunities at the NIH. The PEI provides a platform to increase transparency between HBCUs and the NIH by promoting outreach events and training opportunities and providing technical assistance. Currently, there are six HBCU participants and each selected a minimum of one small business teaming partner to pursue NIH funding opportunities with.

OMB approval is requested for 3 years. There are no costs to respondents other than their time. The total estimated annualized burden hours are 883.

Estimated Annualized Burden Hours
Form name | Type of respondent | Number of respondents | Number of responses per respondent | Average burden per response (in hours) | Total annual burden hour
HBCU Pre-Solicitation Portal for Contracts and Grants (Attachment Number 1) | Private Sector | 62 | 18 | 45/60 | 837
Application for Small Business (Attachment Number 5) | Private Sector | 43 | 1 | 45/60 | 32
Application for Universities (Attachment Number 4) | Private Sector | 19 | 1 | 45/60 | 14
Total |  | 62 | 1178 |  | 883

Dated: January 23, 2024.
Lawrence A. Tabak,
Principal Deputy Director, National Institutes of Health.

[FR Doc. 2024-01698 Filed 1-26-24; 8:45 am]

BILLING CODE 4140-01-P